DEPARTMENT OF THE INTERIOR

National Park Service

Notice of Inventory Completion for Native American Human Remains and Associated Funerary Objects in the Control of Franklin Pierce College, Rindge, NH; Manchester Historical Association, Manchester, NH; New Hampshire Division of Historical Resources, Concord, NH; and University of New Hampshire, Durham, NH; and in the Possession of the New Hampshire Division of Historical Resources, Concord, NH

AGENCY: National Park Service, Interior.

ACTION: Notice.

Notice is hereby given in accordance with provisions of the Native American Graves Protection and Repatriation Act (NAGPRA), 43 CFR 10.9, of the completion of an inventory of human remains and associated funerary objects in the control of Franklin Pierce College, Rindge, NH; Manchester Historical Association, Manchester, NH; New Hampshire Division of Historical Resources, Concord, NH; and University of New Hampshire, Durham, NH (cited below as the four museums); and in the possession of the New Hampshire Division of Historical Resources, Concord, NH.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by professional staff and consultants of the New Hampshire Division of Historical Resources, acting on behalf of the four museums, in consultation with representatives of the Penobscot Tribe of Maine, Wabanaki Tribes of Maine Intertribal Repatriation Committee, the Wampanoag Tribe of Gay Head (Aquinnah) of Massachusetts, Abenaki Nation of Missisquoi (a nonfederally recognized Indian group), Abenaki Nation of New Hampshire (a nonfederally recognized group), Cowasuck Band of the Pennacook-Abenaki People (a nonfederally recognized Indian group), First Nation of New Hampshire (a nonfederally recognized Indian group affiliated with the National Federation of the Republic of the Sovereign Abenaki Nation), Abenaki Family Alliance (a nonfederally recognized Indian group), Dawnland Alliance (a nonfederally recognized Indian group), Southern New England Abenaki Council (a nonfederally recognized Indian group), and four intertribal Indian groups, including the New Hampshire Intertribal Native American Council, the Laconia Indian Historical Association, the Boldwing Clan, and the Greater Lowell Indian Cultural Association.

New Hampshire Division of Historical Resources, acting on behalf of the four museums, has determined that the human remains reported in this notice cannot be affiliated with an Indian tribe as defined in NAGPRA, 43 CFR 10.2 (b)(2), and are considered culturally unidentifiable. Until final promulgation of Section 10.11 of NAGPRA regulations, the Native American Graves Protection and Repatriation Review Committee is responsible for recommending to the Secretary of the Interior specific actions for the disposition of culturally unidentifiable human remains, according to NAGPRA, 43 CFR 10.10 (g). In March 1999, the New Hampshire Division of Historical Resources, acting on behalf of the four museums, presented a disposition proposal to the NAGPRA Review Committee to repatriate 17 culturally unidentifiable human remains from 11 locations in New Hampshire to the Abenaki Nation of Missisquoi (a nonfederally recognized Indian group), representing a coalition of Western Abenaki groups, including the Abenaki Nation of New Hampshire (a nonfederally recognized Indian group), Cowasuck Band of the Pennacook-Abenaki People (a nonfederally recognized Indian group), and the First Nation of New Hampshire (a nonfederally recognized Indian group). The proposal was considered by the review committee at its May 1999 meeting.

The review committee recommended disposition of the human remains to the Abenaki Nation of Missisquoi, representing a coalition of Western Abenaki groups, contingent upon the museum's meeting four requirements. On January 11, 2000, the Departmental Consulting Archeologist, writing on behalf of the Secretary of the Interior, to the New Hampshire Division of Historical Resources asked that the museum distribute the inventory of culturally unidentifiable human remains to the Wabanaki Confederacy (representing the Aroostook Band of Micmac Indians of Maine, Houlton Band of Maliseet Indians of Maine, Indian Township Reservation of the Passamaquoddy Tribe, Penobscot Tribe of Maine, and Pleasant Point Reservation of the Passamaquoddy Tribe) and the Wampanoag Confederation (representing the Wampanoag Tribe of Gay Head [Aquinnah], Mashpee Wampanoag Tribe, and Assonet Band of the Wampanoag); document the concurrence of the Wabanaki Confederacy and the Wampanoag Confederation with the proposed disposition; publish a Notice of Inventory Completion in the Federal Register; and consider documentation compiled as part of the inventory process as public information, and available for education and scientific uses. The New Hampshire Division of Historical Resources, on behalf of the four museums, documented in a November 14, 2001, letter to the review committee that three of the requirements had been met, noting that the fourth requirement would be met with the publication of this Notice of Inventory Completion.

In 1967, human remains representing a minimum of one individual were removed from the Hunter site during excavations by Howard Sargent of Franklin Pierce College for the New Hampshire State Highway Department. The Hunter site is in Claremont, NH, on the Sugar River near its confluence with the Connecticut River. No known individual was identified. No associated funerary objects are present.

Museum documentation indicates that the human remains were removed from the Hunter site and were curated at Franklin Pierce College until 1996 when they were transferred to the New Hampshire Division of Historical Resources for curation. On the basis of stratigraphic and archeological context, the human remains have been dated to the Middle or Late Woodland period (A.D. 1-1500). Archeological, historical, and ethnographic sources, along with oral traditions of the Western Abenaki, indicate that this portion of New Hampshire is within the aboriginal and historic homeland of the Western Abenaki from at least the Late Archaic period (4000-2000 B.C.) through the Historic period (post-A.D. 1500). The Western Abenaki are represented today by the Abenaki Nation of Missisquoi, Abenaki Nation of New Hampshire, Cowasuck Band of the Pennacook-Abenaki People, and First Nation of New Hampshire, all nonfederally recognized Indian groups.

In 1968, human remains representing a minimum of two individuals were removed from the Smyth site during excavations by Howard Sargent of Franklin Pierce College for the New Hampshire State Highway Department. The Smyth site is in Concord, NH, on a terrace above the Merrimack River. No known individuals were identified. No associated funerary objects are present.

Museum documentation indicates that the human remains were removed from the Smyth site during a salvage excavation and were curated at Franklin Pierce College until 1997 when they were transferred to the New Hampshire Division of Historical Resources. On the basis of stratigraphic and archeological context, the human remains have been dated to the Woodland period (1000 B.C.-A.D. 1500). Archeological, historical, and ethnographic sources, along with oral traditions of the Western Abenaki, indicate that this portion of New Hampshire is within the aboriginal and historic homeland of the Western Abenaki from at least the Late Archaic period (4000-2000 B.C.) through the Historic period (post-A.D. 1500). The Western Abenaki are represented today by the Abenaki Nation of Missisquoi, Abenaki Nation of New Hampshire, Cowasuck Band of the Pennacook-Abenaki People, and First Nation of New Hampshire, all nonfederally recognized Indian groups.

In 1971, human remains representing a minimum of one individual were donated by Clyde Berry to the Manchester Historical Association. No known individual was identified. The six associated funerary objects are one small bag of ocher, one small bag of charcoal, one small bag of lithic flakes, one small bag of animal bone, one small bag of turtle shell, and one small bag of fragmentary bone tools. The human remains and associated funerary objects were transferred in 1999 to the New Hampshire Division of Historical Resources for curation.

Museum documentation indicates that these human remains (Berry Collection number 4256) are of a cremated individual from a grave with ocher-stained soil that was exposed by WPA workers in the 1930s during road construction on a terrace above the Merrimack River in Manchester, NH. The radiocarbon date from associated charcoal is 8490 +/- 60 B.P. Archeological, historical, and ethnographic sources, along with oral traditions of the Western Abenaki, indicate that this portion of New Hampshire is within the aboriginal and historic homeland of the Western Abenaki from at least the Late Archaic period (4000-2000 B.C.) through the Historic period (post-A.D. 1500). The Western Abenaki are represented today by the Abenaki Nation of Missisquoi, Abenaki Nation of New Hampshire, Cowasuck Band of the Pennacook-Abenaki People, and First Nation of New Hampshire, all nonfederally recognized Indian groups.

In the 1950s, human remains representing a minimum of one individual were donated by Clyde Berry as part of the Berry Collection to the Manchester Historical Association. No known individual was identified. The four associated funerary objects are three small animal bones and a bone awl. The human remains and associated funerary objects were transferred in 1999 to the New Hampshire Division of Historical Resources for curation.

Museum documentation indicates that these human remains (Berry Collection number 3745) were recovered at Amoskeag on the west bank of the Merrimack River in Manchester, NH, by a workman digging a utility trench at an unknown date. Based on the condition of the bone, the burial is considered to be from the Woodland period (2000 B.C.-A.D.1500). Archeological, historical, and ethnographic sources, along with oral traditions of the Western Abenaki, indicate that this portion of New Hampshire is within the aboriginal and historic homeland of the Western Abenaki from at least the Late Archaic period (4000-2000 B.C.) through the Historic period (post-A.D. 1500). The Western Abenaki are represented today by the Abenaki Nation of Missisquoi, Abenaki Nation of New Hampshire, Cowasuck Band of the Pennacook-Abenaki People, and First Nation of New Hampshire, all nonfederally recognized Indian groups.

In 1971, human remains representing a minimum of one individual were donated by Clyde Berry to the Manchester Historical Association. No known individual was identified. No associated funerary objects are present. These human remains were transferred in 1999 to the New Hampshire Division of Historical Resources for curation.

Museum documentation indicates that these human remains (Berry Collection number 3566) were found by Francis K. Berry in 1938 and removed by James W. House in 1939 from a locale known as "the Narrows" on the Merrimack River in Bedford, NH. The age of the burial is undetermined but has been determined to be Native American on the basis of its recovery in context with other Native American archeological material of Archaic and Woodland age. Archeological, historical, and ethnographic sources, along with oral traditions of the Western Abenaki, indicate that this portion of New Hampshire is within the aboriginal and historic homeland of the Western Abenaki from at least the Late Archaic period (4000-2000 B.C.) through the Historic period (post-A.D. 1500). The Western Abenaki are represented today by the Abenaki Nation of Missisquoi, Abenaki Nation of New Hampshire, Cowasuck Band of the Pennacook-Abenaki People, and First Nation of New Hampshire, all nonfederally recognized Indian groups.

In 1984, human remains representing a minimum of one individual were donated to the New Hampshire Division of Historical Resources by the Museum at Fort No. 4, Charlestown, NH. No known individual was identified. No associated funerary objects are present.

Museum documentation indicates that the human remains were found by a local collector and donated to the Museum at Fort No. 4. There are no records of either the discovery or the donation, but the identification card made at the time of the donation labeled the human remains as "Late Woodland period" (A.D. 1000-1500). Information obtained recently indicates the human remains were collected from an eroding bank of the Connecticut River just upstream from the Museum at Fort No. 4, Charlestown, NH. Archeological, historical, and ethnographic sources, along with oral traditions of the Western Abenaki, indicate that this portion of New Hampshire is within the aboriginal and historic homeland of the Western Abenaki from at least the Late Archaic period (4000-2000 B.C.) through the Historic period (post-A.D. 1500). The Western Abenaki are represented today by the Abenaki Nation of Missisquoi, Abenaki Nation of New Hampshire, Cowasuck Band of the Pennacook-Abenaki People, and First Nation of New Hampshire, all nonfederally recognized Indian groups.

In 1982, human remains representing a minimum of one individual were donated to the New Hampshire Division of Historical Resources by the Police Department of Concord, NH. The human remains were recovered in 1974 during construction of a parking lot in Concord, NH, and were investigated as Concord Police Case 1439C. No known individual was identified. No associated funerary objects are present.

Museum documentation indicates that the human remains belong to the Late Woodland/Historic period (circa A.D. 1000-present). The burial has been determined to be Native American on the basis of its recovery in context with other Native American archeological materials. Archeological, historical, and ethnographic sources, along with oral traditions of the Western Abenaki, indicate that this portion of New Hampshire is within the aboriginal and historic homeland of the Western Abenaki from at least the Late Archaic period (4000-2000 B.C.) through the Historic period (post-A.D. 1500). The Western Abenaki are represented today by the Abenaki Nation of Missisquoi, Abenaki Nation of New Hampshire, Cowasuck Band of the Pennacook-Abenaki People, and First Nation of New Hampshire, all nonfederally recognized Indian groups.

In 1994, human remains representing a minimum of one individual were removed from a site near the New Hampshire Technical Institute in Concord, NH, by Dr. Thomas Hemmings of the New Hampshire Division of Public Works and were placed with the New Hampshire Division of Historical Resources the same year. No known individual was identified. No associated funerary objects are present.

Museum documentation indicates that the human remains were removed from flood deposits of the Historic period (post-A.D. 1500) by Dr. Hemmings during pre-construction research for the New Hampshire Division of Public Works on the Merrimack River flood plain at the New Hampshire Technical Institute in Concord, NH. The burial has been determined to be Native American on the basis of its recovery in context with other Native American archeological materials. Archeological, historical, and ethnographic sources, along with oral traditions of the Western Abenaki, indicate that this portion of New Hampshire is within the aboriginal and historic homeland of the Western Abenaki from at least the Late Archaic period (4000-2000 B.C.) through the Historic period (post-A.D. 1500). The Western Abenaki are represented today by the Abenaki Nation of Missisquoi, Abenaki Nation of New Hampshire, Cowasuck Band of the Pennacook-Abenaki People, and First Nation of New Hampshire, all nonfederally recognized Indian groups.

In 1984, human remains representing a minimum of one individual were removed from the Beaver Brook site during excavations by Dr. David Starbuck and Dennis Howe, and were placed with the New Hampshire Division of Historical Resources in 1985. No known individual was identified. No associated funerary objects are present.

Museum documentation indicates that the human remains were removed by Dr. David Starbuck and Dennis Howe, independent researchers, during an archeological study of the Beaver Brook site on the flood plain of the Merrimack River in Concord, NH. The site was not identified as a cremation burial at the time that the bones were removed. Later, staff of the a Museum of Archeology and Ethnology, Harvard University, Cambridge, MA, identified the bone as human while conducting an osteological analysis for the excavators. At this time, the bone and the stone pavement and stone pyramid, which were associated with the bones, were identified as features of a cremation burial. The radiocarbon date from associated charcoal is 5155 +/- 190 B.P. Archeological, historical, and ethnographic sources, along with oral traditions of the Western Abenaki, indicate that this portion of New Hampshire is within the aboriginal and historic homeland of the Western Abenaki from at least the Late Archaic period (4000-2000 B.C.) through the Historic period (post-A.D. 1500). The Western Abenaki are represented today by the Abenaki Nation of Missisquoi, Abenaki Nation of New Hampshire, Cowasuck Band of the Pennacook-Abenaki People, and First Nation of New Hampshire, all nonfederally recognized Indian groups.

In 1975, human remains representing a minimum of four individuals were removed from the Rocks Road site during excavations by Dr. Charles Bolian of the University of New Hampshire. The human remains were transferred to the New Hampshire Division of Historical Resources for curation in 1999. No known individuals were identified. No associated funerary objects are present.

Museum documentation indicates that these human remains were removed from the Rocks Road site (also known as the Seabrook Station site) during a pre-construction archeological project for the Seabrook Station nuclear power plant in Seabrook, NH, on the Atlantic coast. A radiocarbon date from associated charcoal is 650 B.P. Archeological, historical, and ethnographic sources, along with oral traditions of the Western Abenaki, indicate that this portion of New Hampshire is within the aboriginal and historic homeland of the Western Abenaki from at least the Late Archaic period (4000-2000 B.C.) through the Historic period (post-A.D. 1500). The Eastern Abenaki and Wampanoag appear also to have cultural ties to coastal New Hampshire in the Historic period. The Western Abenaki are represented today by the Abenaki Nation of Missisquoi, Abenaki Nation of New Hampshire, Cowasuck Band of the Pennacook-Abenaki People, and First Nation of New Hampshire, all nonfederally recognized Indian groups.

In 1975, human remains representing a minimum of three individuals were removed from the Seabrook Marsh site in Seabrook, NH, by Dr. Charles Bolian and Brian Robinson of the University of New Hampshire. The human remains were transferred in 1999 to the New Hampshire Division of Historical Resources for curation. No known individuals were identified. No associated funerary objects are present.

Museum documentation indicates that the human remains were removed from the Seabrook Marsh site in Seabrook, NH, during an archeological survey of New Hampshire's Atlantic seacoast. The site is dated to the Late Archaic period (4000-2000 B.C.) based on radiocarbon dating. Archeological, historical, and ethnographic sources, along with oral traditions of the Western Abenaki, indicate that this portion of New Hampshire is within the aboriginal and historic homeland of the Western Abenaki from at least the Late Archaic period (4000-2000 B.C.) through the Historic period (post-A.D. 1500). The Eastern Abenaki and Wampanoag appear also to have cultural ties to coastal New Hampshire in the Historic period. The Western Abenaki are represented today by the Abenaki Nation of Missisquoi, Abenaki Nation of New Hampshire, Cowasuck Band of the Pennacook-Abenaki People, and First Nation of New Hampshire, all nonfederally recognized Indian groups.

Based on the above-mentioned information, officials of the New Hampshire Division of Historical Resources, acting on behalf of the four museums, have determined that, pursuant to 43 CFR 10.2 (d)(1), the human remains listed above represent the physical remains of 17 individuals of Native American ancestry. Officials of the New Hampshire Division of Historical Resources, acting on behalf of the four museums, also have determined that, pursuant to 43 CFR 10.2 (d)(2), the 10 associated funerary objects listed above are reasonably believed to have been placed with or near individual human remains at the time of death or later as part of the death rite or ceremony. Lastly, officials of the New Hampshire Division of Historical Resources, acting on behalf of the four museums, have determined that, pursuant to 43 CFR 10.2 (e), there is a relationship of shared group identity that can be reasonably traced between these Native American human remains and the Abenaki Nation of Missisquoi (a nonfederally recognized Indian group), representing a coalition of Western Abenaki groups, including the Abenaki Nation of New Hampshire (a nonfederally recognized Indian group), Cowasuck Band of the Pennacook-Abenaki People (a nonfederally recognized Indian group), and the First Nation of New Hampshire (a nonfederally recognized Indian group).

This notice has been sent to the Penobscot Tribe of Maine, Wabanaki Confederacy, the Wampanoag Tribe of Gay Head (Aquinnah) of Massachusetts, Abenaki Nation of Missisquoi (a nonfederally recognized Indian group), Abenaki Nation of New Hampshire (a nonfederally recognized Indian group), Cowasuck Band of the Pennacook-Abenaki People (a nonfederally recognized Indian group), and First Nation of New Hampshire (a nonfederally recognized Indian group). Representatives of any other Indian tribe that believes itself to be culturally affiliated with these human remains, should contact Richard Boisvert, Deputy State Archeologist, New Hampshire Division of Historical Resources, P.O. Box 2043, Concord, NH 03302-2043, telephone (603) 271-6628, before August 8, 2002. Repatriation of the human remains to the Abenaki Nation of Missisquoi, representing a coalition of Western Abenaki groups, may begin after that date if no additional claimants come forward.

Dated: April 10, 2002.
Robert Stearns,
Manager, National NAGPRA Program.

[FR Doc. 02-17090 Filed 7-8-02; 8:45 am]

BILLING CODE 4310-70-S